DEPARTMENT OF TRANSPORTATION

Federal Aviation Administration

14 CFR Part 39

[Docket No. 99-NM-376-AD]

RIN 2120-AA64

Airworthiness Directives; Raytheon Model DH.125, Model HS.125, Model BH.125, Model BAe125 Series 800A (Including Major Variants C-29A and U1-25), Model Hawker 800, Model Hawker 800XP, and Model Hawker 1000 Series Airplanes

AGENCY: Federal Aviation Administration, DOT.

ACTION: Notice of proposed rulemaking (NPRM).

SUMMARY: This document proposes the adoption of a new airworthiness directive (AD) that is applicable to certain Raytheon Model DH.125, Model HS.125, Model BH.125, Model BAe.125 Series 800A, Model Hawker 800, Model Hawker 800XP, and Model Hawker 1000 series airplanes. This proposal would require leak checks and inspections for corrosion of the pitot/static and stall vent drain valves, and replacement of certain components, if necessary. This proposal is prompted by reports of plugged or taped drain valves as well as consequent corrosion of certain drain valves. The actions specified by the proposed AD are intended to prevent erroneous altimeter and airspeed indications due to plugged or taped pitot/static and stall vent drain valves.

DATES: Comments must be received by August 3, 2000.

ADDRESSES: Submit comments in triplicate to the Federal Aviation Administration (FAA), Transport Airplane Directorate, ANM-114, Attention: Rules Docket No. 99-NM-376-AD, 1601 Lind Avenue, SW., Renton, Washington 98055-4056. Comments may be inspected at this location between 9 a.m. and 3 p.m., Monday through Friday, except Federal holidays.

The service information referenced in the proposed rule may be obtained from Raytheon Aircraft Company, Manager Service Engineering, Hawker Customer Support Department, P. O. Box 85, Wichita, Kansas 67201-0085. This information may be examined at the FAA, Transport Airplane Directorate, 1601 Lind Avenue, SW., Renton, Washington; or at the FAA, Small Airplane Directorate, Wichita Aircraft Certification Office, 1801 Airport Road, Room 100, Mid-Continent Airport, Wichita, Kansas.

FOR FURTHER INFORMATION CONTACT: Paul DeVore, Aerospace Engineer, Systems and Propulsion Branch, ACE-116W, FAA, Small Airplane Directorate, Wichita, Kansas 672029; telephone (316) 946-4142; fax (316) 946-4407.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 99-NM-376-AD.” The postcard will be date stamped and returned to the commenter.

Availability of NPRMs

Any person may obtain a copy of this NPRM by submitting a request to the FAA, Transport Airplane Directorate, ANM-114, Attention: Rules Docket No. 99-NM-376-AD, 1601 Lind Avenue, SW., Renton, Washington 98055-4056.

Discussion

The FAA has received reports of plugged or taped pitot/static and stall vent drain valves. The reports indicate that corrosion also was detected in some valves. This condition, if not corrected, could result in erroneous altimeter and airspeed indications.

Explanation of Relevant Service Information

The FAA has reviewed and approved Raytheon Aircraft Service Bulletin SB 34-3207, dated August 1999, which describes procedures for performing repetitive leak checks of the pitot/static and stall vent drain valves and inspections for corrosion of the drain valve system, and corrective actions, such as replacement of certain components of the drain valve system. That service bulletin also references the following two service bulletins as additional sources of service information.

Raytheon Aircraft Service Bulletin SB 34-3223, dated August 1999, describes the application of a temporary seal for the pitot/static and stall vent drain valves.

Raytheon Aircraft Service Bulletin SB 34-3282, dated August 1999, describes the installation of a new insert for the pitot/static and stall vent drain valves that will provide a positive seal of the valves. If accomplished on all drain valves, the modification would eliminate the need for the repetitive leak checks described in SB 34-3207.

Explanation of Requirements of Proposed Rule

Since an unsafe condition has been identified that is likely to exist or develop on other products of this same type design, the proposed AD would require leak checks of the pitot/static and stall vent drain valve systems and corrective actions, if necessary. The proposed AD would provide an optional action to apply a temporary seal of the drain valve for certain drain valves that are operative but that are leaking. The actions would be required to be accomplished in accordance with the service bulletins described previously. The proposed AD also would provide an optional terminating action for the proposed repetitive inspections that involves installing a new insert for the drain valve system.

Cost Impact

There are approximately 900 airplanes of the affected design in the worldwide fleet. The FAA estimates that 585 airplanes of U.S. registry would be affected by this proposed AD, that it would take approximately 4 work hours per airplane to accomplish the proposed actions, and that the average labor rate is $60 per work hour. Based on these figures, the cost impact of the proposed AD on U.S. operators is estimated to be $140,400, or $240 per airplane.

The cost impact figure discussed above is based on assumptions that no operator has yet accomplished any of the proposed requirements of this AD action, and that no operator would accomplish those actions in the future if this AD were not adopted.

Should an operator accomplish the optional modification to the drain valve system, it would take approximately 1 work hour per airplane to accomplish, at an average labor rate of $60 per work hour. Based on these figures, the cost impact of the optional modification is estimated to be $60 per airplane.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Raytheon Aircraft Co. (Formerly Beech): Docket 99-NM-376-AD.

Applicability: Model DH.125, Model HS.125, Model BH.125, Model BAe.125, Model Hawker 800, Model Hawker 800XP, and Model Hawker 1000 series airplanes; as listed in Raytheon Aircraft Service Bulletin SB 34-3207, dated August 1999; excluding those airplanes on which all pitot/static drain vent valves have been modified with an insert in accordance with Raytheon Aircraft Repair Design Office instructions; certificated in any category.

Note 1: This AD applies to each airplane identified in the preceding applicability provision, regardless of whether it has been modified, altered, or repaired in the area subject to the requirements of this AD. For airplanes that have been otherwise modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously.

To prevent erroneous altimeter and airspeed indications due to plugged or taped pitot/static and stall vent drain valves, accomplish the following:

Leak Tests

(a) Within 300 hours time-in-service after the effective date of this AD: Drain the pitot/static and stall vent drain valves, and perform a leak test of the systems, in accordance with Raytheon Aircraft Service Bulletin SB 34-3207, dated August 1999. If all drain valves are operating correctly and the leak test is passed successfully, thereafter, repeat the leak test at intervals not to exceed 300 hours time-in-service.

Drain Valves Operative

(b) If all drain valves are operative, but any valve does not pass the leak test required by paragraph (a) of this AD: Prior to further flight, accomplish the actions specified in paragraph (b)(1), (b)(2), or (b)(3) of this AD.

(1) Apply a temporary seal of the drain valve(s) in accordance with Raytheon Aircraft Service Bulletin SB 34-3223, dated August 1999. Within 300 hours time-in-service after the accomplishment of the temporary seal, accomplish the requirements of paragraphs (b)(2) or (b)(3) of this AD.

(2) Replace the drain valve components with new or serviceable drain valve components in accordance with Raytheon Aircraft Service Bulletin SB 34-3207, dated August 1999, and perform the leak test specified in paragraph (a) of this AD. Thereafter, repeat the requirements of paragraph (a) of this AD at intervals not to exceed 300 hours time-in-service.

(3) Modify the drain valves in accordance with Raytheon Aircraft Service Bulletin SB 34-3282, dated August 1999. Thereafter, repeat the requirements of paragraph (a) of this AD at intervals not to exceed 300 hours time-in-service unless all the drain valves have been modified. Accomplishment of the modification on ALL drain valves consititutes terminating action for the requirement to perform repetitive leak tests.

Drain Valves Inoperative

(c) If any drain valve is inoperative (e.g., plugged or taped), whether or not any leaking is detected: Prior to further flight, disassemble the valve and clean all obstructions in accordance with Raytheon Aircraft Service Bulletin SB 34-3207, dated August 1999, and perform a general visual inspection for corrosion of the drain valve.

Note 2: For the purposes of this AD, a general visual inspection is defined as: “A visual examination of an interior or exterior area, installation, or assembly to detect obvious damage, failure, or irregularity. This level of inspection is made under normally available lighting conditions such as daylight, hangar lighting, flashlight, or droplight, and may require removal or opening of access panels or doors. Stands, ladders, or platforms may be required to gain proximity to the area being checked.”

(d) If no corrosion of the drain valves is detected, prior to further flight, perform the actions specified in either paragraph (d)(1) or (d)(2) of this AD at the time specified.

(1) Perform the leak test specified in paragraph (a) of this AD, and thereafter, repeat the leak test requirements at intervals not to exceed 300 hours time-in-service.

(2) Prior to further flight, modify any inoperative valve in accordance with Raytheon Aircraft Service Bulletin SB 34-3282, dated August 1999. Thereafter, repeat the leak test requirements of paragraph (a) of this AD at intervals not to exceed 300 hours time-in-service. Modification of ALL the drain valves constitutes terminating action for the requirement to perform repetitive leak tests.

(e) If any drain valve is corroded, prior to further flight: Inspect the connecting tubing for corrosion and replace any corroded valve or tubing with a new or serviceable valve or tubing in accordance with Raytheon Aircraft Service Bulletin SB 34-3207, dated August 1999. Accomplish the actions of paragraph (e)(1) or (e)(2) of the AD at the time specified.

(1) Prior to further flight, perform the leak test specified in paragraph (a) of this AD, and thereafter, repeat the leak test requirements of paragraph (a) of this AD at intervals not to exceed 300 hours time-in-service.

(2) Prior to further flight, modify any replaced drain valve in accordance with Raytheon Aircraft Service Bulletin SB 34-3282, dated August 1999. Thereafter, repeat the leak test requirements of paragraph (a) of this AD at intervals not to exceed 300 hours time-in-service. Modification of ALL the drain valves constitutes terminating action for the requirement to perform repetitive leak tests.

Alternative Methods of Compliance

(f) An alternative method of compliance or adjustment of the compliance time that provides an acceptable level of safety may be used if approved by the Manager, Wichita Aircraft Certification Office (ACO), ACE-116W, FAA Small Airplane Directorate. Operators shall submit their requests through an appropriate FAA Principal Maintenance Inspector, who may add comments and then send it to the Manager, Wichita ACO.

Note 3: Information concerning the existence of approved alternative methods of compliance with this AD, if any, may be obtained from the Wichita ACO.

Special Flight Permit

(g) Special flight permits may be issued in accordance with §§ 21.197 and 21.199 of the Federal Aviation Regulations (14 CFR 21.197 and 21.199) to operate the airplane to a location where the requirements of this AD can be accomplished.

Issued in Renton, Washington, on June 13, 2000.
Donald L. Riggin,
Acting Manager, Transport Airplane Directorate, Aircraft Certification Service.

[FR Doc. 00-15420 Filed 6-16-00; 8:45 am]

BILLING CODE 4910-13-U